DEPARTMENT OF COMMERCE

Foreign-Trade Zones Board

[Order No. 1230]

Approval of Manufacturing Activity Within Foreign-Trade Zone 210, Port Huron, MI; Cross Hüller-North America (Metalworking Equipment)

Pursuant to its authority under the Foreign-Trade Zones Act of June 18, 1934, as amended (19 U.S.C. 81a-81u)(the Act), the Foreign-Trade Zones Board (the Board) adopts the following Order:

Whereas, the Economic Development Alliance of St. Clair County, grantee of FTZ 210, has requested authority under § 400.32(b)(1) of the Board's regulations on behalf of Cross Hüller-North America (Inc.) to manufacture metalworking equipment (machine tools) under FTZ procedures within FTZ 210-Site 2, Port Huron, Michigan (filed 10-5-2001);

Whereas, pursuant to § 400.32(b)(1), the Commerce Department's Assistant Secretary for Import Administration has the authority to act for the Board in making such decisions on new manufacturing/processing activity under certain circumstances, including situations where the proposed activity is the same, in terms of products involved, to activity recently approved by the Board (§ 400.32(b)(1)(i)); and,

Whereas, the FTZ Staff has reviewed the proposal, taking into account the criteria of Section 400.31, and the Executive Secretary has recommended approval;

Now, therefore, the Assistant Secretary for Import Administration, acting for the Board pursuant to Section 400.32(b)(1), concurs in the recommendation and hereby approves the request subject to the Act and the Board's regulations, including Section 400.28.

Signed at Washington, DC, this 17th day of May 2002.
Faryar Shirzad,
Assistant Secretary of Commerce for Import Administration, Alternate Chairman, Foreign-Trade Zones Board.

Attest:
Dennis Puccinelli,
Executive Secretary.

[FR Doc. 02-13395 Filed 5-28-02; 8:45 am]

BILLING CODE 3510-DS-P